ENVIRONMENTAL PROTECTION AGENCY

40 CFR Part 441

[EPA-HQ-OW-2014-0693; FRL-9957-10-OW]

RIN 2040-AF26

Effluent Limitations Guidelines and Standards for the Dental Category

Correction

In rule document 2017-12338, beginning on page 27154, in the issue of Wednesday, June 14, 2017, make the following correction:

§ 441.20 General definitions [Corrected]

On page 27177, in the second column, in the 18th line of paragraph (iii), “June 14, 2017” should read “June 14, 2027”.

[FR Doc. C1-2017-12338 Filed 6-23-17; 8:45 am]

. BILLING CODE 1301-00-D